DEPARTMENT OF TRANSPORTATION

Federal Aviation Administration

14 CFR Parts 125 and 135

[Docket No. FAA-2006-25334; Amendment Nos. 125-51 and 135-106]

RIN 2120-AI76

Additional Types of Child Restraint Systems That May Be Furnished and Used on Aircraft; Corrections

AGENCY: Federal Aviation Administration (FAA), DOT

ACTION: Final rule; correction.

SUMMARY: The Federal Aviation Administration published a final rule in the Federal Register on July 14, 2006 (71 FR 40003). The final rule allowed the use of child restraint systems that the FAA approves under the aviation standards of Technical Standard Order C-100b, Child Restraint Systems, or under its certification regulations regarding the approval of materials, parts, processes, and appliances. That final rule contained two non-substantive typographical errors in the rule text of two sections. This document corrects the final regulations by revising these sections.

DATES: These amendments become effective October 10, 2006.

FOR FURTHER INFORMATION CONTACT: Nancy Lauck Claussen, Federal Aviation Administration, Flight Standards Service, Air Transportation Division (AFS-200), 800 Independence Avenue, SW., Washington, DC 20591; Telephone 202-267-8166, e-mail nancy.l.claussen@faa.gov.

SUPPLEMENTARY INFORMATION: This document corrects two typographical errors in the text of rule language that was published in the Federal Register on July 14, 2006 (71 FR 40003). In that final rule, the FAA inadvertently omitted “ii” in the exception referenced in §§ 125.211(b)(2)(ii)(D) and 135.128(a)(2)(ii)(D).

List of Subjects

14 CFR Part 125

Aircraft, Aviation Safety.

14 CFR Part 135

Air Taxis, Aircraft, Aviation Safety.

Accordingly, 14 CFR parts 125 and 135 are corrected by making the following correcting amendments:

PART 125—CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

1. The authority citation for part 125 continues to read as follows:

Authority: 49 U.S.C. 106(g), 40113, 44701-44702, 44705, 44710-44711, 44713, 44716-44717, 44722.

2. In § 125.211, amend paragraph (b)(2)(ii)(D) to read as follows:

§ 125.211 Seat and safety belts.

(b) * * *

(2) * * *

(ii) * * *

(D) Except as provided in § 125.211(b)(2)(ii)(C)(3) and § 125.211(b)(2)(ii)(C)(4), booster-type child restraint systems (as defined in Federal Motor Vehicle Safety Standard No. 213 (49 CFR 571.213)), vest- and harness-type child restraint systems, and lap held child restraints are not approved for use in aircraft; and

* * * * *

PART 135—OPERATING REQUIREMENTS: COMMUTER AND ON-DEMAND OPERATIONS AND RULES GOVERNING PERSONS ON BOARD SUCH AIRCRAFT

3. The authority citation for part 135 continues to read as follows:

Authority: 49 U.S.C. 106(g), 44113, 44701-44702, 44705, 44709, 44711-44713, 44715-44717, 44722.

4. In § 135.128, amend paragraph (a)(2)(ii)(D) to read as follows:

§ 135.128 Use of safety belts and child restraint systems

(a) * * *

(2) * * *

(ii) * * *

(D) Except as provided in § 135.128(a)(2)(ii)(C)(3) and § 135.128(a)(2)(ii)(C)(4), booster-type child restraint systems (as defined in Federal Motor Vehicle Safety Standard No. 213 (49 CFR 571.213)), vest- and harness-type child restraint systems, and lap held child restraints are not approved for use in aircraft; and

* * * * *

Issued in Washington, DC on September 29, 2006.
Brenda D. Courtney,
Acting Director, Office of Rulemaking.

[FR Doc. E6-16622 Filed 10-6-06; 8:45 am]

BILLING CODE 4910-13-P